DEPARTMENT OF HEALTH AND HUMAN SERVICES

Meeting of the National Clinical Care Commission

AGENCY: Office of Disease Prevention and Health Promotion, Office of the Assistant Secretary for Health, Office of the Secretary, Department of Health and Human Services.

ACTION: Notice.

SUMMARY: The National Clinical Care Commission (the Commission) will conduct a virtual meeting on September 27, 2019. The Commission is charged to evaluate and make recommendations to the U.S. Department of Health and Human Services (HHS) Secretary and Congress regarding improvements to the coordination and leveraging of federal programs related to awareness and clinical care for complex metabolic or autoimmune diseases that result from issues related to insulin that represent a significant disease burden in the United States, which may include complications due to such diseases.

DATES: The meeting will take place on September 27, 2019, from 2:00 p.m. to approximately 5:30 p.m. Eastern Time (ET).

ADDRESSES: The meeting will be held online via webinar. To register to attend the meeting, please visit the registration website at https://kauffmaninc.adobeconnect.com/nccc_sept_2019/event/event_info.html.

FOR FURTHER INFORMATION CONTACT: Clydette Powell, Designated Federal Officer, National Clinical Care Commission, U.S. Department of Health and Human Services, Office of the Assistant Secretary for Health, Office of Disease Prevention and Health Promotion, 1101 Wootton Parkway, Suite LL-100, Rockville, MD 20852, telephone: 240-453-8239, Email: OHQ@hhs.gov. Additional information may be obtained at https://health.gov/hcq/national-clinical-care-commission.asp.

SUPPLEMENTARY INFORMATION: The National Clinical Care Commission Act (Pub. L. 115-80) requires the HHS Secretary to establish the National Clinical Care Commission. The Commission consists of representatives of specific federal agencies and non-federal individuals and entities who represent diverse disciplines and views. The Commission will evaluate and make recommendations to the HHS Secretary and Congress regarding improvements to the coordination and leveraging of federal programs related to awareness and clinical care for complex metabolic or autoimmune diseases that result from issues related to insulin that represent a significant disease burden in the United States, which may include complications due to such diseases.

The inaugural meeting of the Commission was held on October 31, 2018, during which non-federal Commission members were sworn-in, and various federal interagency efforts surrounding diabetes program were presented. This virtual meeting will consist of an update on the Data Call to federal agencies and Commission discussion on key topics for secondary research in support of the Report to Congress.

The final meeting agenda will be available prior to the meeting at https://health.gov/hcq/national-clinical-care-commission.asp.

Public Participation at Meeting: The Commission invites public comment on issues related to the Commission's charge. There will be no opportunity for oral comments at this virtual meeting. Written comments are welcome throughout the entire development process of the Commission's recommendation and may be emailed to OHQ@hhs.gov, or by mail to the following address: Public Commentary, National Clinical Care Commission, 1101 Wootton Parkway, Suite LL-100, Rockville, MD 20852. Written comments should not exceed three pages in length.

To virtually attend the Commission meeting, individuals must pre-register at the registration website at https://kauffmaninc.adobeconnect.com/nccc_sept_2019/event/event_info.html.

Individuals who need special assistance, such as sign language interpretation or other reasonable accommodations, should indicate the special accommodation when registering online or by notifying Jennifer Gillissen at jennifer.gillissen@kauffmaninc.com by September 20.

Authority: The National Clinical Care Commission is required under the National Clinical Care Commission Act (Pub. L. 115-80). The Commission is governed by provisions of the Federal Advisory Committee Act (FACA), Public Law 92-463, as amended (5 U.S.C., App.) which sets forth standards for the formation and use of federal advisory committees.

Dated: August 20, 2019.
Donald Wright,
Deputy Assistant Secretary for Health.

[FR Doc. 2019-18953 Filed 9-3-19; 8:45 am]

BILLING CODE 4150-32-P